INTERNATIONAL TRADE COMMISSION

[USITC SE-11-021]

Government in the Sunshine Act Meeting Notice

AGENCY HOLDING THE MEETING: United States International Trade Commission.

TIME AND DATE: August 15, 2011 at 3 p.m.

PLACE: Room 101, 500 E Street, SW., Washington, DC 20436, Telephone: (202) 205-2000.

STATUS: Open to the public.

Matters To Be Considered

1. Agendas for future meetings: None.

2. Minutes.

3. Ratification List.

4. Vote in Inv. No. 731-TA-459 (Third Review) (Polyethylene Terephthalate (PET) Film from Korea). The Commission is currently scheduled to transmit its determination and Commissioners' opinions to the Secretary of Commerce on or before August 29, 2011.

5. Vote in Inv. No. 731-TA-718 (Third Review) (Glycine from China). The Commission is currently scheduled to transmit its determination and Commissioners' opinions to the Secretary of Commerce on or before August 30, 2011.

6. Outstanding action jackets: none.

In accordance with Commission policy, subject matter listed above, not disposed of at the scheduled meeting, may be carried over to the agenda of the following meeting.

Issued: August 3, 2011.
By order of the Commission.
William R. Bishop,
Hearings and Meetings Coordinator.

[FR Doc. 2011-19987 Filed 8-3-11; 4:15 pm]

BILLING CODE P